DEPARTMENT OF HEALTH AND HUMAN SERVICES

Health Resources and Services Administration

Council on Graduate Medical Education; Request for Nominations

AGENCY: Health Resources and Services Administration (HRSA), HHS.

ACTION: Notice.

SUMMARY: The Health Resources and Services Administration (HRSA) is requesting nominations to fill eight vacancies on the Council on Graduate Medical Education (COGME).

DATES: Nominations for COGME must be submitted by March 31, 2014.

ADDRESSES: All nominations should be submitted by email to Shane Rogers, Designated Federal Official, at srogers@hrsa.gov, or mailed to: Shane Rogers, COGME, Bureau of Health Professions, HRSA, 5600 Fishers Lane, Room 9A-27, Rockville, Maryland 20857, no later than March 31, 2014.

FOR FURTHER INFORMATION CONTACT: Shane Rogers, Designated Federal Official, COGME, Bureau of Health Professions, HRSA, 5600 Fishers Lane, Room 9A-27, Rockville, Maryland 20857, srogers@hrsa.gov, (301) 443-5260.

SUPPLEMENTARY INFORMATION: A copy of the current council membership, charter, reports, and other publications can be obtained by accessing the COGME Web site at: http://www.hrsa.gov/advisorycommittees/bhpradvisory/cogme/index.html.

The COGME is governed by the Federal Advisory Committee Act, Public Law 92-463 (5 U.S.C. App. 2), as amended, which sets forth the standards for the formation and use of advisory committees. The COGME provides advice and recommendations to the Secretary of the Department of Health and Human Services and to Congress on a range of issues including the supply and distribution of physicians in the United States; current and future shortages or excesses of physicians in medical and surgical specialties and subspecialties; issues relating to foreign medical school graduates; the nature and financing of medical education training; deficiencies in, and needs for improvements in, existing data bases concerning the supply and distribution of, and postgraduate training programs for, physicians in the United States and steps that should be taken to eliminate those deficiencies; and the development of performance measures and longitudinal evaluation of medical education programs. HRSA seeks to have a broad geographic representation of members, a balance between urban and rural members and members from diverse backgrounds, including individuals with disabilities and veterans.

Under the authorities that established the COGME and the Federal Advisory Committee Act, HRSA is seeking nominees with the qualifications to represent the following categories: Practicing Primary Care Physicians, Specialty Physician Organizations, Foreign Medical Graduates, Medical Student Associations, Schools of Osteopathic Medicine, Private Teaching Hospitals, and Business and Health Insurers.

Interested persons and organizations may nominate one or more qualified persons for membership. Self-nominations are accepted. Please furnish each nominee's curriculum vitae (CV) and a completed COGME Applicant Information Form, which can be found on the COGME Web site at: http://www.hrsa.gov/advisorycommittees/bhpradvisory/cogme/index.html or obtained by contacting Mr. Shane Rogers at srogers@hrsa.gov or (301) 443-5260. Personal letters of interest from the nominees are optional.

Selected candidates will be asked to provide detailed information concerning such matters as financial holdings, consultancies, research grants, and/or contracts to permit an evaluation of possible sources of conflicts of interest. Members will receive a stipend for each official meeting day of the Council, as well as per diem, and travel expenses as authorized by section 5 U.S.C. 5703 for persons employed intermittently in government service. Appointments shall be made without discrimination on the basis of age, ethnicity, gender, sexual orientation, and cultural, religious, socioeconomic, or disability status. Selected candidates will be invited to serve a term of no less than 4 years.

Dated: February 27, 2014.
Jackie Painter,
Deputy Director, Division of Policy and Information Coordination.

[FR Doc. 2014-05135 Filed 3-7-14; 8:45 am]

BILLING CODE 4165-15-P